NATIONAL SCIENCE FOUNDATION

National Science Board; Committee on Education and Human Resources; Sunshine Act Meeting

Date and Time: September 14, 4 p.m.-5:30 p.m. (e.d.t.).

Place: The National Science Foundation, Stafford I Building, Room 130, 4201 Wilson Boulevard, Arlington, VA 22230.

Status: This meeting will be open to the public.

Matters to be Considered:

Tuesday, September 14, 2004

Open Session (4 p.m. to 5:30 p.m.): Consideration of the Broadening Participation in Science and Engineering Research and Education draft revisions by the National Science Board Committee on Education and Human Resources.

FOR FURTHER INFORMATION CONTACT: Robert Webber, Senior Policy Analyst, NSB, (703) 292-7000, http://www.nsf.gov/nsb.

Robert Webber,
Senior Policy Analyst.

[FR Doc. 04-20115 Filed 8-31-04; 12:03 pm]

BILLING CODE 7555-01-P